DEPARTMENT OF HEALTH AND HUMAN SERVICES

Administration for Community Living

Notice of Intent To Award a Single Supplement to the Eldercare Locator

ACTION: Notice of intent to award a single supplement to the National Association of Area Agencies on Aging.

SUMMARY: The Administration for Community Living (ACL) is announcing supplemental funding for the Eldercare Locator program. The Eldercare Locator program helps older adults and their families and caregivers find their way through the maze of services for older adults by linking to a trustworthy network of national, State, Tribal and community organizations and services through a nationally recognized toll-free number. The Eldercare Locator also provides older adults and caregivers who require more in depth support the opportunity to speak with highly trained eldercare consultants who can better triage the situation. The purpose of this announcement is to award supplemental funds to the National Association of Area Agencies on Aging to support additional specialized staff and enhanced technology to better serve callers, mobile and after hour callers.

Program Name: Eldercare Locator.

Award Amount: $162,681.

Budget Period: 6/1/2015 to 5/31/2016.

Award Type: Cooperative Agreement.

Statutory Authority: The statutory authority for grants under this notice is contained in Title IV of the Older Americans Act (OAA) (42 U.S.C. 3032), as amended by the Older Americans Act Amendments of 2006. Statutory authority specifically for the Eldercare Locator is contained in Title II of the Older Americans Act (202(a)(21).

Catalog of Federal Domestic Assistance (CFDA) Number: 93.048 Discretionary Projects

I. Program Description

The Administration on Aging, an agency of the U.S. Administration for Community Living, has been funding the Eldercare Locator (the Locator) since 1991. The Eldercare Locator links older persons and their caregivers to resources through a nationally recognized toll-free number, 1-800-677-1116 and Web site (www.eldercare.gov). The goal is to provide users with the information and resources they need that will help older persons live independently and safely in their homes and communities for as long as possible.

The Eldercare Locator call center utilizes live agents to help callers find their way through the maze of services for older adults by linking to a trustworthy network of national, State, Tribal and community organizations and services. In 2011, an additional feature was added to assist older adults and caregivers who require more in depth support the opportunity to speak with highly trained eldercare consultants who can better triage the situation.

II. Justification for the Supplemental Funding

Since 2011, there has been an increase in the number of callers with very complex situations, multiple issues or require assistance with long-term care planning. Because of the complexity, eldercare consultant and senior staff calls are much longer than a regular information specialist call which averages about 5 minutes. There is a need to increase the number of eldercare consultants and/or senior level staff available to handle this higher demand for intense consultation. In addition, there is a need to enhance the technical capabilities of the call center to better serve after hours and mobile callers.

III. Agency Contact

For further information or comments regarding this program expansion supplement, contact Sherri Clark, U.S. Department of Health and Human Services, Administration for Community Living, Office of External Affairs, One Massachusetts Avenue NW., Washington, DC 20001; telephone (202) 357-3506; email sherri.clark@acl.hhs.gov.

Dated: June 29, 2015.
Kathy Greenlee,
Administrator and Assistant Secretary for Aging.

[FR Doc. 2015-16507 Filed 7-6-15; 8:45 am]

BILLING CODE 4154-01-P